SURFACE TRANSPORTATION BOARD

[Docket No. EP 670 (Sub-No. 1)]

Notice of Rail Energy Transportation Advisory Committee Meeting

AGENCY: Surface Transportation Board.

ACTION: Notice of Rail Energy Transportation Advisory Committee meeting.

SUMMARY: Notice is hereby given of a meeting of the Rail Energy Transportation Advisory Committee (RETAC), pursuant to the Federal Advisory Committee Act.

DATES: The meeting will be held on Wednesday, April 17, 2024, at 9:00 a.m. E.T.

ADDRESSES: The meeting will be held at the Surface Transportation Board headquarters at 395 E Street SW, Washington, DC 20423.

FOR FURTHER INFORMATION CONTACT: Kristen Nunnally at (202) 245-0312 or Kristen.Nunnally@stb.gov. If you require an accommodation under the Americans with Disabilities Act for this meeting, please call (202) 245-0245 by April 3, 2024.

SUPPLEMENTARY INFORMATION: RETAC was formed in 2007 to provide advice and guidance to the Surface Transportation Board (Board or STB), and to serve as a forum for discussion of emerging issues related to the transportation of energy resources by rail. Establishment of a Rail Energy Transp. Advisory Comm., EP 670 (STB served July 17, 2007). The purpose of this meeting is to facilitate discussions regarding issues including rail service, infrastructure planning and development, and effective coordination among suppliers, rail carriers, and users of energy resources. Potential agenda items for this meeting include a rail performance measures review, industry segment updates by RETAC members, and a roundtable discussion.

The meeting, which is open to the public, will be conducted in accordance with the Federal Advisory Committee Act, 5 U.S.C. app. 2; Federal Advisory Committee Management regulations, 41 CFR part 102-3; RETAC's charter; and Board procedures. Further communications about this meeting may be announced through the Board's website at www.stb.gov.

Written Comments: Members of the public may submit written comments to RETAC at any time. Comments should be addressed to RETAC, c/o Kristen Nunnally, Surface Transportation Board, 395 E Street SW, Washington, DC 20423-0001 or Kristen.Nunnally@stb.gov. Please submit any comments for review at the April 17, 2024, meeting by April 15, 2024, if possible.

Authority: 49 U.S.C. 1321, 11101, and 11121.

Decided: March 6, 2024.
By the Board, Mai T. Dinh, Director, Office of Proceedings.
Brendetta Jones,
Clearance Clerk.

[FR Doc. 2024-05167 Filed 3-11-24; 8:45 am]

BILLING CODE 4915-01-P